DEPARTMENT OF HEALTH AND HUMAN SERVICES

Centers for Medicare and Medicaid Services

42 CFR Parts 412 and 413

[CMS-1306-CN]

RIN 0938-AN82

Medicare Program; Inpatient Psychiatric Facilities Prospective Payment System Payment Update for Rate Year Beginning July 1, 2006 (RY 2007); Correction and Extension of Comment Period

AGENCY: Centers for Medicare & Medicaid Services (CMS), HHS.

ACTION: Proposed rule; correction and extension of comment period.

SUMMARY: This document corrects technical errors that appeared in the proposed rule entitled “Medicare Program; Inpatient Psychiatric Facilities Prospective Payment System Payment Update for Rate Year Beginning July 1, 2006 (RY 2007).” This correction notice also extends the public comment period for an additional 60 days, to allow the public an opportunity to comment on the correct Electroconvulsive Therapy (ECT) payment policy.

DATES: The comment period for the ECT payment policy is extended to 5 p.m. on April 25, 2006.

FOR FURTHER INFORMATION CONTACT: Matthew Quarrick, (410) 786-9867.

SUPPLEMENTARY INFORMATION:

I. Background

In FR. Doc. 06-488 of January 23, 2006 (71 FR 3616), there were several technical errors that we identify in the “Summary of Errors” section and correct in the “Correction of Errors” section below.

On February 2, 2006, immediately after discovering the error in the ECT payment policy, we released a message on the Inpatient Psychiatric Facilities (IPF) Prospective Payment System (PPS) listserv. In addition, on February 6, 2006, we posted a message on our IPF PPS Web site indicating the error (http://www.cms.hhs.gov/InpatientPsychFacilPPS).

The comment period for the proposed rule closes on March 14, 2006. However, we are extending the comment period for the ECT payment policy in order to give the public an opportunity to comment on the correct policy. The comment period for the ECT policy will close on April 7, 2006.

II. Summary of Errors

In the January 23, 2006 proposed rule, on page 3616, we inadvertently omitted the “Regulations Identification Number (RIN), which is used to identify and track regulations. On page 3632, Table 11 includes the adjustment factors for comorbidity categories. We incorrectly identified the “Tracheostomy comorbidity” category as the “Tracheotomy category.” In the same table, we also published an incorrect adjustment factor of “1.11” for “Severe Musculoskeletal and Connective Tissue Diseases.” The correct factor is “1.09,” as published in the Comorbidity Adjustments table in Addendum A, on page 3656. We note that in Addendum A, the correct comorbidity name for “Musculoskeletal & Connective Tissue Diseases” is “Severe Musculoskeletal and Connective Tissue Diseases.”

We also stated on pages 3644 and 3645, that we apply the standardization factor and the wage index budget neutrality factor to the calendar year (CY) 2006 Outpatient Prospective Payment System (OPPS) median cost for ECT. We inadvertently omitted the adjustments for behavioral offset, stop-loss, and outliers when we calculated the ECT base rate. These adjustments were applied to the median cost for ECT in the implementation year, and we intended to be consistent with our methodology from last year. Because of these omissions, for rate year (RY) 2007, we published a proposed ECT rate of $268.21 instead of $254.86. As previously stated, immediately after discovering this error, we posted the correction on the CMS Web site at http://www.cms.hhs.gov/InpatientPsychFacilPPS/ and issued a message on our IPF PPS listserv.

On page 3648 of the regulatory impact analysis, we incorrectly stated that “we estimate the expenditures from the IPF PPS implementation year to the 2007 IPF PPS RY will be increased by $180 million.” The number we meant to include as the total estimated increase in expenditures from the implementation year to RY 2007 was $170 million. However, on page 3648 of the impact analysis, our estimate of the changes attributable to the policy changes in the proposed rule, primarily the market basket update and the standardization factor is correctly presented as approximately $180 million for the IPF PPS RY 2007.

In Addendum A, on page 3655, under the Variable Per Diem Adjustments table, for Day 1 (on both lines), we indicate an adjustment factor for a facility with or without a 24/7 Full-service Emergency Department (ED). In order to be consistent with our definition of an ED, and to be consistent with the November 15, 2004 IPF PPS correction notice (70 FR 16724), we are deleting the references to “24/7 Full-service ED” and replacing it with “Qualifying ED.”

In Addendum B, on page 3663, we are correcting the 2006 MSA-based wage index values for the Social Security Administration (SSA) State County Codes where the numerical numbers were transposed.

Also, in Addendum B, on page 3702, at the end of the Wage Index Table, we inadvertently included a sentence that refers to the “transition wage index value.” Since we are not proposing a blended transition from Metropolitan Statistical Area (MSA)-based labor market definitions to Core-Based Statistical Areas-based labor market definitions, we are removing this sentence.

In addition, we are correcting cross-references and typographical errors.

III. Correction of Errors

A. Preamble Corrections

In the January 23, 2006 proposed rule (71 FR 3616), make the following corrections:

1. On page 3616, in column 1, insert “RIN-0938-AN82,” above the title of the document.

2. On page 3628, in column 2, in the third full paragraph, in line 2, the cross-reference “IV.C.5” is corrected to read “IV.C.4”.

3. On page 3632, in Table 11, in column 1—

A. In the third entry, “Tracheotomy” is corrected to read “Tracheostomy”.

B. In column 3, in the second entry from the bottom, the figure “1.11” is corrected to read “1.09”.

4. On page 3633, in column 2, in line 24, the cross-reference “IV.C.5.” is corrected to read “IV.C.4.”

5. On page 3641—

A. In column 2, in line 24, the reference to “§ 412.424(d)(1)(V)(A)” is corrected to read “§ 412.424(d)(1)(v)(A)”.

B. In column 3, in line 29, the reference to “§ 412.424(d)(1)(V)(B)” is corrected to read “§ 412.424(d)(1)(v)(B)”.

6. On page 3644, in column 3, in the fifth full paragraph, in line 6, the words “After applying the standardization factor and the wage index budget neutrality factor” are replaced with the words “After applying the standardization factor, behavior offset, stop-loss adjustment, outlier adjustment, and the wage index budget neutrality factor.”

7. On page 3645—

A. In column 1, in line 1, the cross-reference “III.C.1.f.” is corrected to read “IV.C.1.f ”.

B. In column 1, in line 3, the figure “$268.21” is corrected to read “$254.86”.

C. In column 3, in line 7, the reference to “Chapter 2, §§ 20.1ff.)” is corrected to read “Chapter 2, § 20.1)”.

8. On page 3647, in column 3, in the fifth full paragraph—

A. In line 5, the reference to “§ 424.424(c)” is corrected to read “§ 412.424(c)”.

B. In line 7, the reference to “§ 424.424(d)” is corrected to read “§ 412.424(d)”.

9. On page 3648, in column 2, in line 12, the figure “$180” is corrected to read “$170.”

B. Corrections of Addenda

Addendum A

1. On page 3654, in the Patient Adjustments table, the ECT—Per Treatment rate is corrected to read “$254.86”.

2. On page 3655, in the Variable Per Diem Adjustments table—

A. In line 1, the words “Facility Without a 24/7 Full-service Emergency Department” are corrected to read “Facility Without a Qualifying Emergency Department.”

B. In line 2, the words “Facility With a 24/7 Full-service Emergency Department” are corrected to read “Facility With a Qualifying Emergency Department.”

3. On page 3656, in the Comorbidity Adjustments table, in line 13, the words “Musculoskeletal & Connective Tissue Diseases” is corrected to read “Severe Musculoskeletal and Connective Tissue Diseases.”

Addendum B

1. On pages 3663 and 3664, in the fifth column, for the SSA State County Codes 11760 through 11980, correct the wage index values to follow the format of the table.

The 2006 MSA-Based WI should read as follows:

SSA State/county code | 2006 MSA-based WI
11760 | 0.8166
11770 | 0.8166
11771 | 0.8166
11772 | 0.8166
11780 | 0.8560
11790 | 0.9793
11800 | 0.9855
11801 | 0.8166
11810 | 0.9793
11811 | 0.9277
11812 | 0.9793
11820 | 0.8166
11821 | 0.8166
11830 | 0.8166
11831 | 0.8166
11832 | 0.8166
11833 | 0.8166
11834 | 0.8166
11835 | 0.8166
11840 | 0.9808
11841 | 0.9793
11842 | 0.8166
11850 | 0.8166
11851 | 0.8166
11860 | 0.9793
11861 | 0.8166
11862 | 0.8166
11870 | 0.8166
11880 | 0.8166
11881 | 0.8166
11882 | 0.8166
11883 | 0.8166
11884 | 0.8166
11885 | 0.8166
11890 | 0.8166
11900 | 0.8166
11901 | 0.8166
11902 | 0.8166
11903 | 0.8166
11910 | 0.8166
11911 | 0.8166
11912 | 0.9277
11913 | 0.8166
11920 | 0.8166
11921 | 0.9088
11930 | 0.9793
11940 | 0.8166
11941 | 0.8166
11950 | 0.8166
11960 | 0.8166
11961 | 0.8166
11962 | 0.8166
11963 | 0.8166
11970 | 0.8166
11971 | 0.8166
11972 | 0.8166
11973 | 0.8166
11980 | 0.8166

2. On page 3702 in the footnote, remove the sentence “*Transition wage index value should be used with the CBSA urban/rural designation for rate calculation purposes.”

(Catalog of Federal Domestic Assistance Program No. 93.773, Medicare—Hospital Insurance; and Program No. 93.774, Medicare—Supplementary Medical Insurance Program).

Dated: February 17, 2006.
Ann C. Agnew,
Executive Secretary to the Department.

[FR Doc. E6-2607 Filed 2-23-06; 8:45 am]

BILLING CODE 4120-01-P